DEPARTMENT OF DEFENSE

Office of the Secretary

Meeting of the President's Information Technology Advisory Committee (Formerly the Presidential Advisory Committee on High Performance Computing and Communications, Information Technology, and the Next Generation Internet

ACTION: Notice of meeting.

SUMMARY: This notice sets forth the schedule and summary agenda for the next meeting of the President's Information Technology Advisory Committee. The meeting will be open to the public. Notice of this meeting is required under the Federal Advisory Committee Act, (Pub. L. 92-463).

DATES: September 20, 2000.

ADDRESSES: NSF Board Room (Room 1235), National Science Foundation, 4201 Wilson Boulevard, Arlington, VA 22230.

Proposed Schedule and Agenda: The President's Information Technology Advisory Committee (PITAC) will meet in open session from approximately 8:00 a.m. to 12:15 p.m. and 1:30 p.m. to 3:30 p.m. on September 20, 2000.

This meeting will include: (1) Updates and reports from the PITAC's panels on learning, digital libraries, healthcare; the digital divide; and international issues; (2) a discussion on 21st century technologies; (3) a discussion on IT and the Humanities; and (4) a discussion of PITAC next steps and future studies.

FOR FURTHER INFORMATION CONTACT: The National Coordination Office for Computing, Information, and Communications provides information about this Committee on its web site at: http://www.ccic.gov; it can also be reached at (703) 292-4873. Public seating for this meeting is limited, and is available on a first-come, first-served basis.

Dated: August 15, 2000.
L. M. Bynum,
Alternate OSD Federal Register Liaison Officer, Department of Defense.

[FR Doc. 00-21269 Filed 8-21-00; 8:45 am]

BILLING CODE 5001-10-M